DEPARTMENT OF TRANSPORTATION

Office of the Secretary

[Docket No. DOT-OST-2018-0202]

Privacy Act of 1974; Department of Transportation, Office of the Secretary of Transportation; DOT/OST-008, Departmental Advisory Committee Files

AGENCY: Office of the Departmental Chief Information Officer, Office of the Secretary of Transportation, DOT.

ACTION: Notice of Privacy Act system of records and rescission of one system of records.

SUMMARY: In accordance with the Privacy Act of 1974, the U.S. Department of Transportation proposes to reissue, with updates, a system of records, “Department of Transportation/OST-008 Departmental Advisory Committee Files.” This system of records allows the Department to collect and maintain records submitted to the Department by or in connection with applicants for members on a Department of Transportation advisory committees to enable the Department to make decisions about committee membership and manage committees. The Department also consolidating an existing system of records notice, “DOT/RSPA 08, Technical Pipeline Safety Committees for Natural Gas and Hazardous Liquids” with this system and rescinding the notice for DOT/RSPA 08.

DATES: Written comments should be submitted on or before March 22, 2019. The Department may publish an amended Systems of Records Notice in light of any comments received. This system will be effective March 22, 2019.

ADDRESSES: You may submit comments, identified by docket number DOT-OST-2018-0202 by any of the following methods:

• Federal e-Rulemaking Portal: https://www.regulations.gov. Follow the instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, between 9 a.m. and 5 p.m. ET, Monday through Friday, except Federal Holidays.

• Fax: (202) 493-2251.

Instructions: You must include the agency name and docket number DOT-OST-2018-0202. All comments received will be posted without change to https://www.regulations.gov, including any personal information provided.

Privacy Act: Anyone is able to search the electronic form of all comments received in any of our dockets by the name of the individual submitting the comment (or signing the comment, if submitted on behalf of an association, business, labor union, etc.). You may review the Department of Transportation's complete Privacy Act statement in the Federal Register published on April 11, 2000 (65 FR 19477-78), or you may visit http://DocketsInfo.dot.gov.

Docket: For access to the docket to read background documents or comments received, go to https://www.regulations.gov or to the street address listed above. Follow the online instructions for accessing the docket.

FOR FURTHER INFORMATION CONTACT: For questions, please contact: Claire W. Barrett, Departmental Chief Privacy Officer, Office of the Chief Information Officer, Department of Transportation, Washington, DC 20590; privacy@dot.gov; or 202.527.3284.

SUPPLEMENTARY INFORMATION:

I. Background

In accordance with the Privacy Act of 1974, 5 U.S.C. 552a, the Department of Transportation (DOT)/Office of the Secretary (OST) proposes to reissue and update a system of records titled, “Department of Transportation/OST-008, Departmental Advisory Committee Files.” The Department also intends to rescind the following legacy notice, “DOT/RSPA 08, Technical Pipeline Safety Committees for Natural Gas and Hazardous Liquids” and consolidate records managed under that Notice with this updated System.

The DOT sponsors advisory committees in accordance with the Federal Advisory Committee Act when DOT or Congress deems it would be beneficial to obtain advice or recommendations on issues or policies under consideration by DOT. The composition of an advisory committee is determined by DOT, or statute, and may include special government employees, Federal employees, or representatives of outside organizations, such as trade groups or industry. Individuals interested in serving on an advisory committee may apply directly to DOT for consideration, or be recommended by others. The DOT collects information about applicants to assess their qualifications to serve as a committee member, such as employment and educational experiences, references, and other information relevant to the applicant's qualifications, which may include a criminal background check and credit check. This system was originally established in the mid-1970s; however, the Department later determined that files about advisory committee applicants and members were not retrievable by individual name or personal identifier. As a result, the Department retired this notice in 2000. The Department is updating its processes for evaluating applications for membership on advisory committees and for managing records about committee applicants and members. As these records will be retrievable by applicant/member name, the Department is reinstating the notice, with updates to reflect changes in the location of the Department's headquarters and incorporation of all applicable DOT general routine uses.

In accordance with the Privacy Act of 1974, 5 U.S.C. 552a, DOT proposes two routine uses for this system, in addition to the general routine uses applicable this system and described below. The DOT may disclose information to OMB, the Executive Office of the President, or the General Services Administration, when necessary and relevant to DOT's management of the advisory committee, including as needed in DOT's consideration of applicants for membership on an advisory committee, or to comply with any obligations to report information about advisory committees to those entities. This use is compatible with the purpose of the collection, which is to administer advisory committees in accordance with the Federal Advisory Committee Act. In addition, DOT may disclose information from this system to the public to inform the public about the identity and qualifications of individuals selected to serve as members of advisory committees. As one of the purposes of the Federal Advisory Committee Act is to ensure transparency to the public about advisory committee advice and activities, a routine use permitting disclosure of information about advisory committee members is compatible with the purpose of the collection.

We also are consolidating an existing system of records notices, “DOT/RSPA 08, Technical Pipeline Safety Committees for Natural Gas and Hazardous Liquids” into this system of records and retiring the notice for DOT/RSPA 08. This system was established for the Pipeline and Hazardous Materials Safety Administration to maintain information about applicants and members of the Pipeline Safety Committees for Natural Gas and Hazardous Liquids. As this type of information also be covered by this System, the Department determined that separate notices are not needed and, therefore, is retiring the notice for DOT/RSPA-08.

Finally, we have updated the format and included the relevant and compatible Departmental General Routine Uses to conform to Office of Management and Budget Circular A-108, Federal Agency Responsibilities for Review, Reporting, and Publication under the Privacy Act.” This updated system will be included in DOT's inventory of record systems. This Notice does not apply to records covered by other System of Records Notices.

II. Privacy Act

The Privacy Act (5 U.S.C. 552a) governs the means by which the Federal Government collects, maintains, and uses personally identifiable information (PII) in a System of Records. A “System of Records” is a group of any records under the control of a Federal agency from which information about individuals is retrieved by name or other personal identifier. The Privacy Act requires each agency to publish in the Federal Register a System of Records notice (SORN) identifying and describing each System of Records the agency maintains, including the purposes for which the agency uses PII in the system, the routine uses for which the agency discloses such information outside the agency, and how individuals to whom a Privacy Act record pertains can exercise their rights under the Privacy Act (e.g., to determine if the system contains information about them and to contest inaccurate information).

In accordance with 5 U.S.C. 552a(r), DOT has provided a report of this system of records to the Office of Management and Budget and to Congress.

SYSTEM NAME AND NUMBER:

Department of Transportation (DOT)/OST-008, Federal Advisory Committee Files

SECURITY CLASSIFICATION:

Unclassified.

SYSTEM LOCATION:

Records are maintained at the Department of Transportation headquarters in Washington, DC.

SYSTEM MANAGER AND ADDRESS:

Committee Management Officer, U.S. Department of Transportation, Office of the Secretary, Office of the Executive Secretariat, 1200 New Jersey Ave. SE, Washington, DC 20950, (202) 366-4277.

AUTHORITY FOR MAINTENANCE OF THE SYSTEM:

Federal Advisory Committee Act, Public Law 92-463, as amended.

PURPOSE(S):

The information in this system is used to evaluate and select individuals for membership on advisory committees within the jurisdiction of the Department, and for the management of advisory committees in the Department, including the preparation of reports, documenting membership, and the nomination and appointment of members, member terms, vacancies, acceptance, and separation.

CATEGORIES OF INDIVIDUALS COVERED BY THE SYSTEM:

Individuals who are or were members of advisory committees, who have applied or were nominated to serve on advisory committees.

CATEGORIES OF RECORDS IN THE SYSTEM:

Records in this system include: Advisory committee applicant, nominee, and member name, title, home address, business address, employer, organizational affiliation, phone number, email address, educational institutions attended, degrees held, employment history, references/letters of recommendation, and other information relevant to an individual's qualifications to serve on an advisory committee. This system also may include the applicant's date of birth, social security number, gender, race, drivers license number and state of issuance, and prior residences for purposes of obtaining a credit check and criminal background check. The system will also include the results of those checks. The system also includes information about the member's position on the committee, including documentation of their appointment, date of appointment, term, date of separation, and reason for separation.

RECORD SOURCE CATEGORIES:

Records are obtained from individuals who apply to serve on advisory committees, individuals identified by applicants as their references, Members of Congress, applicants' former employers. Information may also be obtained from publicly available sources with the applicant's consent.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside DOT as a routine use pursuant to 5 U.S.C. 552a(b)(3) as follows:

System Specific Routine Uses

1. To the Executive Office of the President, the Office of Management and Budget, or the General Services Administration when necessary in the administration of the Department's advisory committee, including complying with reporting obligations;

2. To the public, information about an advisory committee's membership and qualifications when the Department deems it necessary to inform the public of advisory committee membership or activities. This routine use does not permit disclosure of information obtained in a criminal background or credit check, social security number, driver license number, and date of birth.

Department General Routine Uses

3. To the appropriate agency, whether Federal, State, local, or foreign, charged with the responsibility of implementing, investigating, prosecuting, or enforcing a statute, regulation, rule or order, when a record in this system indicates a violation or potential violation of law, whether civil, criminal, or regulatory in nature, including any records from this system relevant to the implementation, investigation, prosecution, or enforcement of the statute, regulation, rule, or order that was or may have been violated;

4. To a Federal, State, or local agency maintaining civil, criminal, or other information, such as current licenses, if necessary for DOT to obtain information relevant to a DOT decision;

5. To the Department of Justice, or any other Federal agency conducting litigation, when (a) DOT, (b) any DOT employee, in his/her official capacity, or in his/her individual capacity if the Department of Justice has agreed to represent the employee, or (c) the United States or any agency thereof, is a party to litigation or has an interest in litigation, and DOT determines that the use of the records by the Department of Justice or other Federal agency conducting the litigation is relevant and necessary to the litigation;

6. To parties in proceedings before any court or adjudicative or administrative body before which DOT appears when (a) DOT, (b) any DOT employee in his or her official capacity, or in his or her individual capacity where DOT has agreed to represent the employee, or (c) the United States or any agency thereof is a party to litigation or has an interest in the proceeding, and DOT determined that is relevant and necessary to the proceeding;

7. To the National Archives and Records Administration for an inspection under 44 U.S.C. 2904 and 2906.

8. To another agency or instrumentality of any government jurisdiction for use in law enforcement activities, either civil or criminal, or to expose fraudulent claims; however, this routine use only permits the disclosure of names pursuant to a computer matching program that otherwise complies with the requirements of the Privacy Act.

9. To the Attorney General of the United States, of his/her designee, information indicating that a person meets any of the qualifications for receipt, possession, shipment, or transport of a firearm under the Brady Handgun Violence Prevention Act. Should the validity of the information DOT provides to the Attorney General or his/her designee be disputed, DOT may disclose to that National Background Information Check System, established by the Brady Handgun Violence Prevention Act, any information from this system necessary to resolve the dispute.

10. To appropriate agencies, entities, and persons, when (1) DOT suspects or has confirmed that the security or confidentiality of information in the system of records has been compromised; (2) DOT has determined that as a result of the suspected or confirmed compromise there is a risk of harm to economic or property interests, identity theft or fraud, or harm to the security or integrity of this system or other systems or programs (whether maintained by DOT or not) that rely on the compromised information; and (3) the disclosure made to such agencies, entities, or persons is reasonably necessary to assist in connection with DOT's efforts to respond to the suspected or confirmed compromise and prevent, minimize, or remedy such harm.

11. To DOT's contractors and their agents, DOT's experts, consultants, and others performing or working on a contract, service, cooperative agreement, or other assignment for DOT, when necessary to accomplish an agency function related to this system of records.

12. To an agency, organization, or individual for the purpose of performing an audit or oversight related to this system or records, provided that DOT determines the records are necessary and relevant to the audit or oversight activity. This routine use does not apply to intra-agency sharing authorized under Section (b)(1) of the Privacy Act.

13. To a Federal, State, local, tribal, foreign government, or multinational agency, either in response to a request or upon DOT's initiative, terrorism information (6 U.S.C. 485(a)(5)), homeland security information (6 U.S.C. 482(f)(1)), or law enforcement information (Guideline 2, report attached to White House Memorandum, “Information Sharing Environment,” Nov. 22, 2006), when DOT finds that disclosure of the record is necessary and relevant to detect, prevent, disrupt, preempt, or mitigate the effects of terrorist activities against the territory, people, and interests of the United States, as contemplated by the Intelligence Reform and Terrorism Prevention Act of 2004, Public Law 108-456, and Executive Order 13388 (Oct. 25, 2005).

POLICIES AND PRACTICES FOR STORAGE OF RECORDS:

Records in this system are stored electronically and/or on paper in secure facilities.

POLICIES AND PRACTICES FOR RETRIEVAL OF RECORDS:

Records may be retrieved by name of individual or committee name.

POLICIES AND PRACTICES FOR RETENTION AND DISPOSAL OF RECORDS:

Resumes and references of members and applicants are retained and disposed of when they are superseded, obsolete, or no longer needed, in accordance with General Records Schedule 6.2, Item 050. Records related to the selection and membership of committee members are permanent, and transferred to the National Archives and Records Administration when they are 15 years old or the committee is termination, whichever is sooner, in accordance with General Records Schedule 6.2, Item 010.

ADMINISTRATIVE, TECHNICAL, AND PHYSICAL SAFEGUARDS:

Records in this system are safeguarded in accordance with applicable rules and policies, including all applicable DOT automated systems security and access policies. Appropriate controls have been imposed to minimize the risk of compromising the information that is being stored. Access to records in this system is limited to those individuals who have a need to know the information for the performance of their official duties and who have appropriate clearances or permissions.

RECORD ACCESS PROCEDURES:

Individuals seeking notification of and access to any record contained in this system of records, or seeking to contest its content, may submit a request to the System Manager in writing in writing to the address provided under “System Manager and Address.” Individuals may also search the public docket at www.regulations.gov by their name.

When seeking records about yourself from this system of records or any other Departmental system of records your request must conform with the Privacy Act regulations set forth in 49 CFR part 10. You must sign your request, and your signature must either be notarized or submitted under 28 U.S.C. 1746, a law that permits statements to be made under penalty of perjury as a substitute for notarization. While no specific form is required, you should provide the following:

• An explanation of why you believe the Department would have information on you;

• Identify which component(s) of the Department you believe may have the information about you;

• Specify when you believe the records would have been created;

• Provide any other information that will help the FOIA staff determine which DOT component agency may have responsive records; and

If your request is seeking records pertaining to another living individual, you must include a statement from that individual certifying his/her agreement for you to access his/her records.

Without this bulleted information, the component(s) may not be able to conduct an effective search, and your request may be denied due to lack of specificity or lack of compliance with applicable regulations.

CONTESTING RECORD PROCEDURES:

Individuals seeking to contest the content of any record pertaining to him or her in the system may contact the System Manager following the procedures described in “Record Access Procedures” above.

NOTIFICATION PROCEDURES:

Individuals seeking notification of whether this system contains records about him or her may contact the System Manager following the procedures described in the “Record Access Procedures” above.

EXEMPTIONS CLAIMED FOR THE SYSTEM:

None.

HISTORY:

DOT/OST-008; 65 FR 19570 (April 11, 2000); DOT/RSPA-08 65 FR 19561, (April 11, 2000).

Issued in Washington, DC, on February 14, 2019.
Claire W. Barrett,
Departmental Chief Privacy Officer.

[FR Doc. 2019-02758 Filed 2-19-19; 8:45 am]

BILLING CODE 4910-9X-P